DEPARTMENT OF COMMERCE

International Trade Administration

Amendment to the Clean Energy and Zero Emission Vehicle Technologies Trade Mission to Mexico November 17-22, 2019

AGENCY: International Trade Administration, U.S. Department of Commerce.

ACTION: Notice.

SUMMARY: The United States Department of Commerce, International Trade Administration, is amending the Notice published in April 9, 2019, regarding the Clean Energy and Zero Emission Vehicle Technologies Trade Mission to Mexico November 17-22, to modify the participation fee for the trade mission and the timeframe for recruitment and application. The participation fee for the Business Development Mission will be $4,000.00 for SME and $5,500.00 for large firms. Recruitment for the mission will conclude no later than August 9, 2019. Applications received after August 9, 2019, will be considered only if space and scheduling constraints permit.

FOR FURTHER INFORMATION CONTACT:

Braeden Young, Commercial Officer, U.S. Embassy-Mexico, U.S. Department of Commerce, Tel: 55-5080-2182, Braeden.Young@trade.gov.

Claudia Salgado, Commercial Specialist, U.S. Embassy-Mexico, U.S. Department of Commerce, Tel: 55-5080-2000, x5224, Claudia.Salgado@trade.gov.

Monica Martinez, Commercial Specialist, U.S. Embassy-Mexico, U.S. Department of Commerce, Tel: 55-5080-2000, x 5218, Monica.Martinez@trade.gov.

SUPPLEMENTARY INFORMATION: Amendments to revise the selection process.

Tiara Hampton-Diggs,
Program Specialist, Trade Promotion Programs.

[FR Doc. 2019-11198 Filed 6-12-19; 8:45 am]

BILLING CODE 3510-DR-P